DEPARTMENT OF TRANSPORTATION

Federal Aviation Administration

14 CFR Part 39

[Docket No. FAA-2013-0369; Directorate Identifier 2012-NM-128-AD; Amendment 39-17793; AD 2014-05-20]

RIN 2120-AA64

Airworthiness Directives; The Boeing Company Airplanes

AGENCY: Federal Aviation Administration (FAA), DOT.

ACTION: Final rule.

SUMMARY: We are adopting a new airworthiness directive (AD) for all The Boeing Company Model 757 airplanes. This AD was prompted by reports of fractured rudder pedal pushrod connecting bolts in a rudder pedal assembly. This AD requires repetitive replacements of the rudder pedal pushrod connecting bolts and repetitive inspections of the rudder pedal assembly bolt holes in each of the captain and the first officer rudder pedal assemblies, and if necessary, repair or replacement of worn rudder pedal assemblies. We are issuing this AD to prevent fracture of the rudder pedal pushrod connecting bolts during pedal use, which could result in large involuntary inputs to the rudder and nose-wheel steering and an asymmetric application of braking, if pedal brakes are applied, leading to a runway excursion.

DATES: This AD is effective April 22, 2014.

The Director of the Federal Register approved the incorporation by reference of certain publications listed in the AD as of April 22, 2014.

ADDRESSES: For service information identified in this AD, contact Boeing Commercial Airplanes, Attention: Data & Services Management, P.O. Box 3707, MC 2H-65, Seattle, WA 98124-2207; telephone 206-544-5000, extension 1; fax 206-766-5680; Internet https://www.myboeingfleet.com. You may view this referenced service information at the FAA, Transport Airplane Directorate, 1601 Lind Avenue SW., Renton, Washington 98057-3356. For information on the availability of this material at the FAA, call 425-227-1221.

Examining the AD Docket

You may examine the AD docket on the Internet at http://www.regulations.gov by searching for and locating Docket No. FAA-2013-0369; or in person at the Docket Management Facility between 9 a.m. and 5 p.m., Monday through Friday, except Federal holidays. The AD docket contains this AD, the regulatory evaluation, any comments received, and other information. The address for the Docket Office (phone: 800-647-5527) is Docket Management Facility, U.S. Department of Transportation, Docket Operations, M-30, West Building Ground Floor, Room W12-140, 1200 New Jersey Avenue SE., Washington, DC 20590.

FOR FURTHER INFORMATION CONTACT: Marie Hogestad, Aerospace Engineer, Systems and Equipment Branch, ANM-130S, Seattle Aircraft Certification Office, FAA, 1601 Lind Avenue SW., Renton, WA 98057-3356; phone: 425-917-6418; fax: 425-917-6590; email: marie.hogestad@faa.gov.

SUPPLEMENTARY INFORMATION:

Discussion

We issued a notice of proposed rulemaking (NPRM) to amend 14 CFR part 39 by adding an AD that would apply to all The Boeing Company Model 757 airplanes. The NPRM published in the Federal Register on May 10, 2013 (78 FR 27315). The NPRM was prompted by reports of fractured rudder pedal pushrod connecting bolts in a rudder pedal assembly. The NPRM proposed to require repetitive replacements of the rudder pedal pushrod connecting bolts and repetitive inspections of the rudder pedal assembly bolt holes in each of the captain and the first officer rudder pedal assemblies, and if necessary, repair or replacement of worn rudder pedal assemblies. We are issuing this AD to prevent fracture of the rudder pedal pushrod connecting bolts during pedal use, which could result in large involuntary inputs to the rudder and nose-wheel steering and an asymmetric application of braking, if pedal brakes are applied, leading to a runway excursion.

Comments

We gave the public the opportunity to participate in developing this AD. The following presents the comments received on the proposal (78 FR 27315, May 10, 2013) and the FAA's response to each comment.

Request To Reduce the Compliance Time

Air Line Pilots Association International (the commenter) stated that it agrees with the intent of the NPRM (78 FR 27315, May 10, 2013), but requested that we reduce the compliance time from 60 months to 24 months. The commenter provided no justification for this request.

We disagree with the request to revise the compliance time in this final rule. In developing the compliance time for this final rule, we considered not only the safety implications of the identified unsafe condition, but also the average utilization rate of the affected fleet, the practical aspects of an orderly modification of the fleet, the availability of required parts, and the time necessary for the rulemaking process. We find that the compliance time, as proposed, adequately represents an appropriate interval of time in which the required actions can be performed in a timely manner within the affected fleet, while still maintaining an adequate level of safety. We have not changed this final rule in this regard.

Request To Clarify the Unsafe Condition

Boeing requested that we revise the unsafe condition in the NPRM (78 FR 27315, May 10, 2013), and suggested language to clarify the expectation of asymmetric braking, in the event of fracture of the subject bolt. Boeing added that symmetric braking inputs prior to fracture can become asymmetric following bolt fracture due to loss of brake inputs on the affected side.

We agree with the request to revise the unsafe condition for the reasons provided by Boeing. We have revised this final rule to reflect the revised language.

Request To Use One Service Bulletin Revision

Aviation Technical Services, Inc. (the commenter) requested that we revise the NPRM (78 FR 27315, May 10, 2013) to mandate only one version of the service information. The commenter also requested that we require that Boeing combine both versions of the service bulletin specified in the NPRM, into one final revision. The commenter reasoned that having two versions of the service bulletin will require operators and maintenance providers to integrate the two service bulletins in order to comply with the NPRM. The commenter expressed that this burden should be on the original equipment manufacturer (OEM) and the FAA.

The commenter also requested that to further determine the adequacy of Boeing Alert Service Bulletin 757-27A0153, dated May 9, 2012, as revised by Boeing Alert Service Bulletin 757-27A0153, Revision 1, dated October 29, 2012, the FAA should use its own guidance, as provided by FAA Advisory Circular (AC) 20-176, dated December 19, 2011 (http://rgl.avs.faa.gov/Regulatory_and_Guidance_Library/rgAdvisoryCircular.nsf/0/a78cc91a47b192278625796b0075f419/$FILE/AC%2020-176.pdf).

We disagree with the request to provide a single service bulletin version for the required method of compliance. Boeing Alert Service Bulletin 757-27A0153, Revision 1, dated October 29, 2012, includes only minor corrections to washer part numbers in top kit 012N8932-21 and an additional instruction for getting better access, if necessary, for the detailed inspections required by this final rule. It is not necessary that Boeing combine both revisions of the referenced service bulletin into one final revision.

Also, the design approval holder (DAH) followed the guidance in FAA AC 20-176, dated December 19, 2011 (http://rgl.avs.faa.gov/Regulatory_and_Guidance_Library/rgAdvisoryCircular.nsf/0/a78cc91a47b192278625796b0075f419/$FILE/AC%2020-176.pdf). We approved Boeing Alert Service Bulletin 757-27A0153, dated May 9, 2012, as revised by Boeing Alert Service Bulletin 757-27A0153, Revision 1, dated October 29, 2012, using the guidance in FAA Order 8110.117, dated September 12, 2012 (http://rgl.avs.faa.gov/Regulatory_and_Guidance_Library/rgOrders.nsf/0/984bb9eb07cdd86986257a7f0070744c/$FILE/Order%208110.117.pdf). (Refer to Section 2-11, “Streamlining Development and Revision of SBs,” paragraph (c)(5), “Partial Revision Process—A process in which only changed information in a service bulletin is sent to affected customers,” of FAA AC 20-176, dated December 19, 2011.) We have not changed this final rule in this regard.

Request for Additional Guidance

Aviation Technical Services, Inc. (the commenter) requested that we revise the NPRM (78 FR 27315, May 10, 2013) to provide sufficient instruction to determine the installation finish associated with the replacement bushing for the rudder pedal pushrod. The commenter reasoned that the instructions provided by Boeing Alert Service Bulletin 757-27A0153, dated May 9, 2012, as revised by Boeing Alert Service Bulletin 757-27A0153, Revision 1, dated October 29, 2012, refer to Boeing Standard Overhaul Practices Manual (SOPM) 20-50-03 for the shrink fit procedure to install repair bushings, and that the SOPM procedure contain instructions such as: “Apply the specified installation finish. . . .” and “Refer to the overhaul instructions for applicable operations. . . .” The commenter asserted that neither Boeing Alert Service Bulletin 757-27A0153, dated May 9, 2012, as revised by Boeing Alert Service Bulletin 757-27A0153, Revision 1, dated October 29, 2012, nor the SOPM provide sufficient instruction to determine the installation finish associated with the replacement bushing for the rudder pedal pushrod.

We disagree to revise this final rule. Step 4 of Figures 3 and 4 of the Accomplishment Instructions of Boeing Alert Service Bulletin 757-27A0153, dated May 9, 2012, as revised by Boeing Alert Service Bulletin 757-27A0153, Revision 1, dated October 29, 2012, already provides procedures for installing bushing 001N0004-1 with BMS 5-95 sealant, as specified in “the shrink fit” procedure referred to in Standard Overhaul Practices Manual (SOPM) 20-50-03 (bushing 001N0004-1 is already finished). SOPM 20-50-03 Bearing and Bushing Replacement, Paragraph 7.B, “Shrink Fit (Temperature Differential) Procedure,” specifies, among other things, to apply the specified installation finish “as specified in Paragraph 6B,” which, in turn, specifies “Installation with sealant.” The finish is, in this case, the sealant that is used during the installation (BMS 5-95). Therefore, Boeing Alert Service Bulletin 757-27A0153, dated May 9, 2012, as revised by Boeing Alert Service Bulletin 757-27A0153, Revision 1, dated October 29, 2012, in combination with SOPM 20-50-03, provide sufficient instructions to install the bushing. We have not changed the AD in this regard.

Request To Match Terminology

American Airlines (AAL) requested that we revise the NPRM (78 FR 27315, May 10, 2013) to match certain wording in Boeing Alert Service Bulletin 757-27A0153, dated May 9, 2012, as revised by Boeing Alert Service Bulletin 757-27A0153, Revision 1, dated October 29, 2012. AAL explained that Boeing Alert Service Bulletin 757-27A0153, dated May 9, 2012, as revised by Boeing Alert Service Bulletin 757-27A0153, Revision 1, dated October 29, 2012, refers to bolt part number (P/N) BACB30NM5DK47 as changed to P/N BACB30UU5K48D as the rudder pedal pushrod bolt, while the NPRM refers to this part number as the rudder pedal pushrod connecting bolt. AAL expressed that matching the terminology in Boeing Alert Service Bulletin 757-27A0153, dated May 9, 2012, as revised by Boeing Alert Service Bulletin 757-27A0153, Revision 1, dated October 29, 2012, would eliminate any possible confusion.

We disagree with the request to match the terminology in this final rule with the terminology found in Boeing Alert Service Bulletin 757-27A0153, dated May 9, 2012, as revised by Boeing Alert Service Bulletin 757-27A0153, Revision 1, dated October 29, 2012. The word “connecting” was added in the NPRM (78 FR 27315, May 10, 2013) to further clarify that this bolt secures the rudder pedal arm to the rudder pushrod. We have not changed this final rule in this regard.

Request To Use Specific Instructions

AAL requested that we revise the NPRM (78 FR 27315, May 10, 2013) to require only those instructions that correct the unsafe condition. AAL explained that paragraphs (g) and (h) of the NPRM are more restrictive than necessary to ensure safety of flight, and that the Accomplishment Instructions of Boeing Alert Service Bulletin 757-27A0153, dated May 9, 2012, as revised by Boeing Alert Service Bulletin 757-27A0153, Revision 1, dated October 29, 2012, should not be mandated in their entirety.

AAL requested the following revisions to certain paragraphs of the NPRM (78 FR 27315, May 10, 2013):

• Since paragraph (g) of the NPRM (78 FR 27315, May 10, 2013) specified a detailed inspection of the rudder pedal assembly bolt holes, the only procedure that should be mandated by this paragraph is FIGURE 1 of the Accomplishment Instructions of Boeing Alert Service Bulletin 757-27A0153, dated May 9, 2012, as revised by Boeing Alert Service Bulletin 757-27A0153, Revision 1, dated October 29, 2012.

• Since paragraph (h)(1) of the NPRM (78 FR 27315, May 10, 2013) specified replacement of a new bolt, washer, nut, and cotter pin, the only procedure that should be mandated by this paragraph is FIGURE 2 of the Accomplishment Instructions of Boeing Alert Service Bulletin 757-27A0153, dated May 9, 2012, as revised by Boeing Alert Service Bulletin 757-27A0153, Revision 1, dated October 29, 2012.

• Paragraph (h)(2)(i) of the NPRM (78 FR 27315, May 10, 2013) should be revised as follows: “Install a new rudder pedal assembly in accordance with `Condition 2' of the Accomplishment Instructions of Boeing Alert Service Bulletin 757-27A0153, dated May 9, 2012, as revised by Boeing Alert Service Bulletin 757-27A0153, Revision 1, dated October 29, 2012; or install a bushing in the worn hole in accordance with FIGURE 3 of the Accomplishment Instructions of Boeing Alert Service Bulletin 757-27A0153, dated May 9, 2012, as revised by Boeing Alert Service Bulletin 757-27A0153, Revision 1, dated October 29, 2012.”

• Paragraph (h)(2)(ii) of the NPRM (78 FR 27315, May 10, 2013) specified installation of a new bolt, washer, nut, and cotter pin in accordance with the Accomplishment Instructions of Boeing Alert Service Bulletin 757-27A0153, dated May 9, 2012, as revised by Boeing Alert Service Bulletin 757-27A0153, Revision 1, dated October 29, 2012. However, Boeing Alert Service Bulletin 757-27A0153, dated May 9, 2012, as revised by Boeing Alert Service Bulletin 757-27A0153, Revision 1, dated October 29, 2012, does not provide explicit instructions to replace the bolt, washer, nut, and cotter pin in the event that the diameter of only one hole is greater than 0.3140 inch. There is only a note in the procedure to make sure to discard the existing hardware, and to install new hardware as provided in Boeing Kit 0l2N8932-21.

AAL has determined that the instructions provided in FIGURE 2 of the Accomplishment Instructions of Boeing Alert Service Bulletin 757-27A0153, dated May 9, 2012, as revised by Boeing Alert Service Bulletin 757-27A0153, Revision 1, dated October 29, 2012, contain the proper instructions and part numbers to replace the bolt, washer, nut, and cotter pin to correct the unsafe condition. Therefore, the only procedure that should be mandated by this paragraph is FIGURE 2 of the Accomplishment Instructions of Boeing Alert Service Bulletin 757-27A0153, dated May 9, 2012, as revised by Boeing Alert Service Bulletin 757-27A0153, Revision 1, dated October 29, 2012.

• Paragraph (h)(3)(i) of the NPRM (78 FR 27315, May 10, 2013) should be revised as follows: “Install a new rudder pedal assembly in accordance with `Condition 2' of the Accomplishment Instructions of Boeing Alert Service Bulletin 757-27A0153, dated May 9, 2012, as revised by Boeing Alert Service Bulletin 757-27A0153, Revision 1, dated October 29, 2012, or install two bushings in the two worn holes in accordance with FIGURE 4 of the Accomplishment Instructions of Boeing Alert Service Bulletin757-27A0153, dated May 9, 2012, as revised by Boeing Alert Service Bulletin 757-27A0153, Revision 1, dated October 29, 2012.”

• Paragraph (h)(3)(ii) of the NPRM (78 FR 27315, May 10, 2013) requires installation of a new bolt, washer, nut, and cotter pin in accordance with the Accomplishment Instructions of Boeing Alert Service Bulletin 757-27A0153, dated May 9, 2012, as revised by Boeing Alert Service Bulletin 757-27A0153, Revision 1, dated October 29, 2012. However, Boeing Alert Service Bulletin 757-27A0153, dated May 9, 2012, as revised by Boeing Alert Service Bulletin 757-27A0153, Revision 1, dated October 29, 2012, does not provide explicit instructions to replace the bolt, washer, nut, and cotter pin in the event that the diameters of both holes are greater than 0.3140 inch. Again, there is only a note in the procedure to make sure to discard the existing hardware, and to install new hardware as provided in Boeing Kit 012N8932-21.

AAL has determined that the instructions provided in FIGURE 2 of the Accomplishment Instructions of Boeing Alert Service Bulletin 757-27A0153, dated May 9, 2012, as revised by Boeing Alert Service Bulletin 757-27A0153, Revision 1, dated October 29, 2012, contain the proper instructions and part numbers to replace the bolt, washer, nut, and cotter pin to correct the unsafe condition. Therefore, the only procedure that should be mandated by this paragraph is FIGURE 2 of the Accomplishment Instructions of Boeing Alert Service Bulletin 757-27A0153, dated May 9, 2012, as revised by Boeing Alert Service Bulletin 757-27A0153, Revision 1, dated October 29, 2012.

We agree with the concept of minimizing AD requirements when appropriate. However, we do not agree with AAL's request. The FAA worked in conjunction with industry, under the Airworthiness Directives Implementation Aviation Rulemaking Committee (ARC), to enhance the AD system. One enhancement is a new process for annotating which steps in the service information are “required for compliance” (RC) with an AD. Differentiating these steps from other tasks in the service information is expected to improve an owner's/operator's understanding of AD requirements and help provide consistent judgment in AD compliance.

In response to the AD Implementation ARC, the FAA released AC 20-176, dated December 19, 2011 (http://rgl.avs.faa.gov/Regulatory_and_Guidance_Library/rgAdvisoryCircular.nsf/0/a78cc91a47b192278625796b0075f419/$FILE/AC%2020-176.pdf); and Order 8110.117, dated September 12, 2012 (http://rgl.avs.faa.gov/Regulatory_and_Guidance_Library/rgOrders.nsf/0/984bb9eb07cdd86986257a7f0070744c/$FILE/Order%208110.117.pdf), which include the concept of RC. The FAA has begun implementing this concept in ADs when we receive service information containing RC steps. While some design approval holders have implemented the RC concept, the implementation is voluntary. The FAA does not intend to develop or revise AD requirements to incorporate the RC concept if it is not included in the service information.

Contrary to AAL's statement that ADs should mandate only those service bulletin provisions that are “necessary to ensure safety of flight,” ADs generally contain requirements that are reasonably related to addressing the unsafe condition, as determined by the FAA and the design approval holder that developed the service bulletin. Typically, operators' maintenance programs were not developed in recognition of the unsafe condition that is being addressed by an AD. Whenever we issue an AD, those programs had failed to prevent the unsafe condition in the first place. Therefore, many provisions of ADs address aspects of accomplishing the required maintenance that are necessary to prevent operators from inadvertently aggravating the unsafe condition or introducing new unsafe conditions.

For many years, the Air Transport Association (now Airlines for America, A4A) has sponsored the “Lead Airline” program through which individual airlines are provided an opportunity to prototype manufacturers' draft service instructions before they are finalized. One objective of this activity is to minimize the procedures included in the instructions that are considered unnecessary. Therefore, when the FAA receives a manufacturer's service bulletin, we recognize that the procedures specified have been determined to be necessary by both the manufacturer and affected operators. As in this case, the instructions provided in service bulletins referenced in ADs are reasonably related to addressing the unsafe condition.

As always, if AAL or any other operator prefers to address the unsafe condition by means other than those specified in the referenced service information, they may request approval for an alternative method of compliance and, if approved, may use it instead of the procedures specified in the service information.

Therefore, no changes have been made to this final rule in this regard.

Conclusion

We reviewed the relevant data, considered the comments received, and determined that air safety and the public interest require adopting this AD with the changes described previously and minor editorial changes. We have determined that these minor changes:

• Are consistent with the intent that was proposed in the NPRM (78 FR 27315, May 10, 2013) for correcting the unsafe condition; and

• Do not add any additional burden upon the public than was already proposed in the NPRM (78 FR 27315, May 10, 2013).

We also determined that these changes will not increase the economic burden on any operator or increase the scope of this AD.

Costs of Compliance

We estimate that this AD affects 685 airplanes of U.S. registry.

We estimate the following costs to comply with this AD:

Estimated Costs
Action | Labor cost | Parts cost | Cost per product | Cost on U.S. operators
Inspect/replace bolts (Condition 1 in the Accomplishment Instructions of Boeing Alert Service Bulletin 757-27A0153, dated May 9, 2012, as revised by Boeing Alert Service Bulletin 757-27A0153, Revision 1, dated October 29, 2012) | 5 work-hours × $85 per hour = $425 per inspection cycle | $217 | $642 per inspection cycle | $439,770 per inspection cycle

We estimate the following costs to do any necessary repairs/replacements that would be required based on the results of the inspection. We have no way of determining the number of aircraft that might need these repairs/replacements:

On-Condition Costs
Action | Labor cost | Parts cost | Cost per product
Replace rudder pedal assembly (Condition 2 in the Accomplishment Instructions of Boeing Alert Service Bulletin 757-27A0153, dated May 9, 2012, as revised by Boeing Alert Service Bulletin 757-27A0153, Revision 1, dated October 29, 2012) | 2 work-hours × $85 per hour = $170 | Unknown | $170
Repair rudder pedal assembly (Condition 3 in the Accomplishment Instructions of Boeing Alert Service Bulletin 757-27A0153, dated May 9, 2012, as revised by Boeing Alert Service Bulletin 757-27A0153, Revision 1, dated October 29, 2012) | 3 work-hours × $85 per hour = $255 | Unknown | $255
Repair rudder pedal assembly (Condition 4 in the Accomplishment Instructions of Boeing Alert Service Bulletin 757-27A0153, dated May 9, 2012, as revised by Boeing Alert Service Bulletin 757-27A0153, Revision 1, dated October 29, 2012) | 4 work-hours × $85 per hour = $340 | Unknown | $340

The on-condition costs in the table above are per rudder pedal assembly. Depending on the diameter of the holes found during the inspection, it may be necessary to replace or repair the rudder pedal assemblies. The parts cost to replace or repair the rudder pedal assemblies are not included in the estimate; it is considered “Parts & Materials Supplied by the Operator,” which is referenced in Boeing Alert Service Bulletin 757-27A0153, dated May 9, 2012, as revised by Boeing Alert Service Bulletin 757-27A0153, Revision 1, dated October 29, 2012.

According to the manufacturer, some of the costs of this AD may be covered under warranty, thereby reducing the cost impact on affected individuals. We do not control warranty coverage for affected individuals. As a result, we have included all costs in our cost estimate.

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2014-05-20 The Boeing Company: Amendment 39-17793; Docket No. FAA-2013-0369; Directorate Identifier 2012-NM-128-AD.

(a) Effective Date

This AD is effective April 22, 2014.

(b) Affected ADs

Certain requirements of this AD terminate the requirements of AD 2001-22-13, Amendment 39-12492 (66 FR 55075, November 1, 2001), for Model 757 airplanes.

(c) Applicability

This AD applies to all The Boeing Company Model 757-200, -200PF, -200CB, and -300 series airplanes, certificated in any category.

(d) Subject

Air Transport Association (ATA) of America Code 27, Flight Controls.

(e) Unsafe Condition

This AD was prompted by reports of fractured rudder pedal pushrod connecting bolts in the rudder pedal assembly. We are issuing this AD to prevent fracture of the rudder pedal pushrod connecting bolts during pedal use, which could result in large involuntary inputs to the rudder and nose-wheel steering and an asymmetric application of braking, if pedal brakes are applied, leading to a runway excursion.

(f) Compliance

Comply with this AD within the compliance times specified, unless already done.

(g) Inspection

Within 60 months after the effective date of this AD, do a detailed inspection of the rudder pedal assembly bolt holes to determine the diameter in each of the captain and the first officer rudder pedal assemblies, in accordance with the Accomplishment Instructions of Boeing Alert Service Bulletin 757-27A0153, dated May 9, 2012, as revised by Boeing Alert Service Bulletin 757-27A0153, Revision 1, dated October 29, 2012. Repeat this inspection thereafter at intervals not to exceed 15,000 flight cycles.

(h) Installation

Do the applicable actions specified in paragraph (h)(1), (h)(2), or (h)(3) of this AD for each of the captain and first officer rudder pedal assemblies, based on the results of any inspection required by paragraph (g) of this AD. Accomplishment of paragraph (h)(1), (h)(2), or (h)(3) of this AD terminates the requirements of AD 2001-22-13, Amendment 39-12492 (66 FR 55075, November 1, 2001), for that Model 757 airplane only.

(1) If the diameters of both holes are within 0.3120 and 0.3140 inch on the assembly, before further flight, install a new rudder pedal pushrod connecting bolt, washer, nut, and cotter pin, in accordance with the Accomplishment Instructions of Boeing Alert Service Bulletin 757-27A0153, dated May 9, 2012, as revised by Boeing Alert Service Bulletin 757-27A0153, Revision 1, dated October 29, 2012.

(2) If the diameter of only one hole is greater than 0.3140 inch on the assembly, before further flight, do the actions specified in paragraphs (h)(2)(i) and (h)(2)(ii) of this AD.

(i) Install a new rudder pedal assembly, or install a bushing in the worn hole, in accordance with the Accomplishment Instructions of Boeing Alert Service Bulletin 757-27A0153, dated May 9, 2012, as revised by Boeing Alert Service Bulletin 757-27A0153, Revision 1, dated October 29, 2012.

(ii) Install a new rudder pedal pushrod connecting bolt, washer, nut, and cotter pin, in accordance with the Accomplishment Instructions of Boeing Alert Service Bulletin 757-27A0153, dated May 9, 2012, as revised by Boeing Alert Service Bulletin 757-27A0153, Revision 1, dated October 29, 2012.

(3) If the diameters of both holes are greater than 0.3140 inch on the assembly, before further flight, do the actions specified in paragraphs (h)(3)(i) and (h)(3)(ii) of this AD.

(i) Install a new rudder pedal assembly, or install two bushings in the two worn holes, in accordance with the Accomplishment Instructions of Boeing Alert Service Bulletin 757-27A0153, dated May 9, 2012, as revised by Boeing Alert Service Bulletin 757-27A0153, Revision 1, dated October 29, 2012.

(ii) Install a new rudder pedal pushrod connecting bolt, washer, nut, and cotter pin, in accordance with the Accomplishment Instructions of Boeing Alert Service Bulletin 757-27A0153, dated May 9, 2012, as revised by Boeing Alert Service Bulletin 757-27A0153, Revision 1, dated October 29, 2012.

(i) Parts Installation Prohibition

As of the effective date of this AD, no person may install, in a rudder pedal assembly of any Boeing Model 757 airplane, a bolt having part number (P/N) BACB30NM5DK47.

(j) Credit for Previous Actions

This paragraph provides credit for the actions required by paragraphs (g) and (h) of this AD, if operators installed washers having P/N NAS1149D0516J, NAS1149D0532J, and NAS1149D0563J, and if those actions were performed before the effective date of this AD using Boeing Alert Service Bulletin 757-27A0153, dated May 9, 2012, as unmodified by Boeing Alert Service Bulletin 757-27A0153, Revision 1, dated October 29, 2012.

(k) Alternative Methods of Compliance (AMOCs)

(1) The Manager, Seattle Aircraft Certification Office (ACO), FAA, has the authority to approve AMOCs for this AD, if requested using the procedures found in 14 CFR 39.19. In accordance with 14 CFR 39.19, send your request to your principal inspector or local Flight Standards District Office, as appropriate. If sending information directly to the manager of the ACO, send it to the attention of the person identified in paragraph (l)(1) of this AD. Information may be emailed to: 9-ANM-Seattle-ACO-AMOC-Requests@faa.gov.

(2) Before using any approved AMOC, notify your appropriate principal inspector, or lacking a principal inspector, the manager of the local flight standards district office/certificate holding district office.

(3) An AMOC that provides an acceptable level of safety may be used for any repair required by this AD if it is approved by the Boeing Commercial Airplanes Organization Designation Authorization (ODA) that has been authorized by the Manager, Seattle ACO, to make those findings. For a repair method to be approved, the repair must meet the certification basis of the airplane, and the approval must specifically refer to this AD.

(l) Related Information

(1) For more information about this AD, contact Marie Hogestad, Aerospace Engineer, Systems and Equipment Branch, ANM-130S, Seattle Aircraft Certification Office, FAA, 1601 Lind Avenue SW., Renton, WA 98057-3356; phone: 425-917-6418; fax: 425-917-6590; email: marie.hogestad@faa.gov.

(2) Service information identified in this AD that is not incorporated by reference in this AD may be obtained at the address specified in paragraphs (m)(3) and (m)(4) of this AD.

(m) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Boeing Alert Service Bulletin 757-27A0153, dated May 9, 2012.

(ii) Boeing Alert Service Bulletin 757-27A0153, Revision 1, dated October 29, 2012.

(3) For Boeing service information identified in this AD, contact Boeing Commercial Airplanes, Attention: Data & Services Management, P. O. Box 3707, MC 2H-65, Seattle, WA 98124-2207; telephone 206-544-5000, extension 1; fax 206-766-5680; Internet https://www.myboeingfleet.com.

(4) You may view this service information at FAA, 1601 Lind Avenue SW., Renton, WA 98057-3356. For information on the availability of this material at the FAA, call 425-227-1221.

(5) You may view this service information that is incorporated by reference at the National Archives and Records Administration (NARA). For information on the availability of this material at NARA, call 202-741-6030, or go to: http://www.archives.gov/federal-register/cfr/ibr-locations.html.

Issued in Renton, Washington, on February 19, 2014.
Jeffrey E. Duven,
Manager, Transport Airplane Directorate, Aircraft Certification Service.

[FR Doc. 2014-04843 Filed 3-17-14; 8:45 am]

BILLING CODE 4910-13-P